DEPARTMENT OF COMMERCE

National Oceanic and Atmospheric Administration

RIN 0648-XF171

Pacific Fishery Management Council; Public Meeting

AGENCY: National Marine Fisheries Service (NMFS), National Oceanic and Atmospheric Administration (NOAA), Commerce.

ACTION: Notice; public meeting.

SUMMARY: The Pacific Fishery Management Council's (Pacific Council) trawl catch share five-year review Community Advisory Board (CAB), will hold a webinar, which is open to the public.

DATES: The CAB webinar will be on Tuesday, February 7, 2017, from 10 a.m. to 12 p.m. Pacific Time, or when business for the day is complete.

ADDRESSES: To attend the CAB webinar, visit this link: http://www.gotomeeting.com/online/webinar/join-webinar. Enter the Webinar ID: 363-170-539. Please enter your name and email address (required). After logging into the webinar, dial this TOLL number +1 (631) 992-3221 (not a toll-free number), enter the attendee phone audio access code 981-429-294, then enter your audio phone PIN (shown after joining the webinar). NOTE: We have disabled Mic/Speakers as on option and require all participants to use a telephone or cell phone to participate. You may send an email to Mr. Kris Kleinschmidt (kris.kleinschmidt@noaa.gov) or contact him at (503) 820-2280, extension 425 for technical assistance. A listening station will also be provided at the Pacific Council office.

Council address: Pacific Council, 7700 NE Ambassador Place, Suite 101, Portland, OR 97220-1384.

FOR FURTHER INFORMATION CONTACT: Jim Seger, Pacific Council; telephone: (503) 820-2416.

SUPPLEMENTARY INFORMATION: The CAB will hold a webinar to review the Council actions from the November 2016 Pacific Council meeting, continue preliminary discussions of actions that might follow-on from the five year review of the trawl catch share program, and make plans for its May/June 2017 meeting.

Although nonemergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Technical Information and System Requirements

PC-based attendees: Windows® 7, Vista, or XP operating system required. Mac®-based attendees: Mac OS® X 10.5 or newer required. Mobile attendees: iPhone®, iPad®, Android™ phone or Android tablet required (use GoToMeeting Webinar Apps).

Special Accommodations

The meeting is physically accessible to people with disabilities. Requests for sign language interpretation or other auxiliary aids should be directed to Mr. Kris Kleinschmidt at (503) 820-2280 at least 10 days prior to the meeting date.

Dated: January 13, 2017.
Jeffrey N. Lonergan,
Acting Deputy Director, Office of Sustainable Fisheries, National Marine Fisheries Service.

[FR Doc. 2017-01307 Filed 1-19-17; 8:45 am]

BILLING CODE 3510-22-P